DEPARTMENT OF ENERGY

Federal Energy Regulatory Commission

Combined Notice of Filings #1

Take notice that the Commission received the following exempt wholesale generator filings:

Docket Numbers: EG23-121-000.

Applicants: Clearwater Wind East, LLC.

Description: Clearwater Wind East, LLC submits Notice of Self-Certification of Exempt Wholesale Generator Status.

Filed Date: 4/13/23.

Accession Number: 20230413-5176.

Comment Date: 5 p.m. ET 5/4/23.

Take notice that the Commission received the following electric rate filings:

Docket Numbers: ER22-2867-003.

Applicants: Bluegrass Solar, LLC.

Description: Tariff Amendment: Response to Second Deficiency Letter to be effective 10/1/2022.

Filed Date: 4/14/23.

Accession Number: 20230414-5101.

Comment Date: 5 p.m. ET 5/5/23.

Docket Numbers: ER23-888-001.

Applicants: New England Power Company.

Description: Tariff Amendment: 2023-04-14 Deficiency Letter Response to be effective 12/19/2022.

Filed Date: 4/14/23.

Accession Number: 20230414-5029.

Comment Date: 5 p.m. ET 5/5/23.

Docket Numbers: ER23-1638-000.

Applicants: PJM Interconnection, L.L.C.

Description: § 205(d) Rate Filing: Original ISA, Service Agreement No. 6864; Queue No. AF1-019 to be effective 3/14/2023.

Filed Date: 4/13/23.

Accession Number: 20230413-5165.

Comment Date: 5 p.m. ET 5/4/23.

Docket Numbers: ER23-1639-000.

Applicants: Midcontinent Independent System Operator, Inc., American Transmission Company LLC.

Description: § 205(d) Rate Filing: Midcontinent Independent System Operator, Inc. submits tariff filing per 35.13(a)(2)(iii: 2023-04-14_SA 3909 ATC-City of Negaunee 1st Rev PCA (Irontown) to be effective 6/14/2023.

Filed Date: 4/14/23.

Accession Number: 20230414-5017.

Comment Date: 5 p.m. ET 5/5/23.

Docket Numbers: ER23-1640-000.

Applicants: Public Service Company of Colorado.

Description: § 205(d) Rate Filing: 2023-04-14—Att O PSCo Appendix 1 to be effective 4/27/2022.

Filed Date: 4/14/23.

Accession Number: 20230414-5059.

Comment Date: 5 p.m. ET 5/5/23.

Docket Numbers: ER23-1641-000.

Applicants: Stored Solar Tamworth, LLC.

Description: Tariff Amendment: Cancellation of Stored Solar Tamworth, LLC MBR Tariff to be effective 4/14/2023.

Filed Date: 4/14/23.

Accession Number: 20230414-5070.

Comment Date: 5 p.m. ET 5/5/23.

Docket Numbers: ER23-1642-000.

Applicants: Stored Solar J&WE, LLC.

Description: § 205(d) Rate Filing: NE Renewable Power, LLC MBR Tariff to be effective 1/31/2023.

Filed Date: 4/14/23.

Accession Number: 20230414-5074.

Comment Date: 5 p.m. ET 5/5/23.

Docket Numbers: ER23-1643-000.

Applicants: PacifiCorp.

Description: Tariff Amendment: Notice of Termination to be effective 6/14/2023.

Filed Date: 4/14/23.

Accession Number: 20230414-5095.

Comment Date: 5 p.m. ET 5/5/23.

Docket Numbers: ER23-1644-000.

Applicants: Tri-State Generation and Transmission Association, Inc.

Description: § 205(d) Rate Filing: Amendment to Rate Schedule FERC No. 35 to be effective 6/13/2023.

Filed Date: 4/14/23.

Accession Number: 20230414-5103.

Comment Date: 5 p.m. ET 5/5/23.

Docket Numbers: ER23-1645-000.

Applicants: Virginia Electric and Power Company, PJM Interconnection, L.L.C.

Description: § 205(d) Rate Filing: Virginia Electric and Power Company submits tariff filing per 35.13(a)(2)(iii: VEPCO revisions to OPEB Expense in OATT Att. H-16C Formula Rate to be effective 6/15/2023.

Filed Date: 4/14/23.

Accession Number: 20230414-5111.

Comment Date: 5 p.m. ET 5/5/23.

Docket Numbers: ER23-1646-000.

Applicants: Virginia Electric and Power Company, PJM Interconnection, L.L.C.

Description: § 205(d) Rate Filing: Virginia Electric and Power Company submits tariff filing per 35.13(a)(2)(iii: VEPCO submits revisions to OATT Att. H-16A Pt. 2 Depreciation Rates to be effective 6/14/2023.

Filed Date: 4/14/23.

Accession Number: 20230414-5112.

Comment Date: 5 p.m. ET 5/5/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2023.
Debbie-Anne A. Reese,
Deputy Secretary.

[FR Doc. 2023-08349 Filed 4-19-23; 8:45 am]

BILLING CODE 6717-01-P